DEPARTMENT OF COMMERCE

International Trade Administration

Application for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 05-002.

Applicant: Cornell University, 123 Day Hall, Ithaca, NY 14853.

Instrument: KB Mirror System.

Manufacturer: Kohzu Precision Co., Ltd., Japan.

Intended Use: The instrument is intended to be used by a group of universities to study the molecular structure of macro-molecules of importance in the life sciences including proteins, viruses, enzymes and other related entities by the scattering of monoenergetic x-rays from single crystals of these materials utilizing the intense beams of x-rays provided by the Advanced Photon Source at Argonne National Laboratory to determine the molecular structure of these entities. The mirror system is needed to focus the intense x-ray beam onto sub-millimeter sized crystals.

Application accepted by Commissioner of Customs: January 24, 2005.

Gerald A. Zerdy,
Program Manager, Statutory Import Programs Staff.

[FR Doc. E5-478 Filed 2-4-05; 8:45 am]

BILLING CODE 3510-DS-P